DEPARTMENT OF HOMELAND SECURITY

Citizenship and Immigration Services

Agency Information Collection Activities: Extension of a Currently Approved Information Collection; Comments Request

ACTION: 30-Day Notice of Information Collection Under Review: Application for Status as Temporary Resident under Section 245A of the Immigration and Nationality Act, Form I-687.

The Department of Homeland Security, U.S. Citizenship and Immigration Services (USCIS) has submitted the following information collection request to the Office of Management and Budget (OMB) for review and clearance in accordance with the Paperwork Reduction Act of 1995. The information collection was previously published in the Federal Register on March 24, 2004 at 69 FR 13865, allowed for a 60-day public comment period. The USCIS did not receive any comments on this information collection.

The purpose of this notice is to allow an additional 30 days for public comments. Comments are encouraged and will be accepted until April 22, 2005. This process is conducted in accordance with 5 CFR 1320.10.

Written comments and suggestions from the public and affected agencies concerning the collection of information should address one or more of the following points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Extension of a currently approved collection.

(2) Title of the Form/Collection: Application for Status as Temporary Resident under Section 245A of the Immigration and Nationality Act.

(3) Agency Form Number, if Any, and the Applicable Component of the Department of Homeland Security Sponsoring the Collection: Form I-687. U.S. Citizenship and Immigration Services.

(4) Affected Public Who Will be Asked or Required to Respond, as Well as a Brief Abstract: Primary: Individuals and Households. The collection of information on Form I-687 is required to verify the applicant's eligibility for temporary status, and if the applicant is deemed eligible, to grant him or her the benefit sought.

(5) An Estimate of the Total Number of Respondents and the Amount of Time Estimated for an Average Respondent to Respond: 100,000 responses at 1 hour and 10 minutes (1.16 hours) per response.

(6) An Estimate of the Total Public Burden (in Hours) Associated With the Collection: 116,000 annual burden hours.

If you have comments, suggestions, or need a copy of the information collection instrument, please contact Richard A. Sloan, Director, Regulatory Management Division, Department of Homeland Security, 111 Massachusetts Avenue, NW., Washington, DC 20529; 202-272-8377.

Dated: March 17, 2005.
Richard A. Sloan,
Director, Regulatory Management Division, U.S. Citizenship and Immigration Services.

[FR Doc. 05-5674 Filed 3-22-05; 8:45 am]

BILLING CODE 4410-10-M